DEPARTMENT OF LABOR

Office of Disability Employment Policy

[SGA 06-01]

Disability Case Study Research Consortium on Employer Organizational Practices in Employing People With Disabilities

AGENCY: Office of Disability Employment Policy, DOL.

ACTION: Solicitation for cooperative agreement.

Announcement Type: New notice of Availability of Funds and Solicitation for Grant Applications (SGA) for Disability Case Study Research Consortium on Employer Organizational Practices in Employing People with Disabilities.

Funding Opportunity Number: SGA 06-01.

Catalogue of Federal Domestic Assistance (CFDA) Number: 17.720.

Executive Summary

The U.S. Department of Labor (“DOL” or “Department”), Office of Disability Employment Policy (“ODEP”), announces the availability of up to $500,000 to fund one cooperative agreement for an 18-month period of performance. The goal of the cooperative agreement is for a Research Consortium to develop a standard design methodology and conduct case study research to identify ways in which an organization's structures, values, policies and day-to-day practices, facilitate the employment of people with disabilities. These case studies will validate and document effective policies and strategies within corporations that have had success in recruiting, hiring, retaining and promoting people with disabilities.

Researchers have identified a specific need for further study in this area, stating that more “data needs to be collected in actual workplace settings to make accurate assessments of the impact of corporate culture on employees with disabilities” (Schur, Kruse, & Blanck, 2005, p. 15) and that

[i]t also would be valuable to compile detailed case studies of companies that have made concerted efforts to increase the hiring, retention and promotion of employees with disabilities. This would allow comparisons to be made of policies in different corporate settings, help identify “what works” in companies that have been successful in employing individuals with disabilities, and facilitate the development of “best practices” that serve as models for other employers. (Schur, Kruse, & Blanck, 2005, p. 15)

The purpose of this Research Consortium is to conduct this much needed research. A critical element of this endeavor is the development and application of a standard research design that will be used by the Research Consortium members to conduct multiple case studies of companies that have been successful in employing people with disabilities and assess how these organizations created an atmosphere that benefited people with disabilities and the organization as a whole. A multi-case analysis will identify strategies utilized by successful companies that promote employment of people with disabilities, allow comparative analysis across different corporate settings, and facilitate the development and dissemination of model practices and policy recommendations.

The information generated will result in individual case studies that can serve as models for other employers. The case studies, cross-case comparative analysis, and topical research briefs will be disseminated through employer and industry associations and used in academic settings such as business school curriculums and professional development courses to educate future business leaders.

DATES: Key Date: Applications must be received by June 9, 2006.

ADDRESSES: Applications must be mailed or hand-delivered to: U.S. Department of Labor, Procurement Services Center, Attention: Cassandra Mitchell, Reference SGA 06-01, Room N5416, 200 Constitution Avenue, NW., Washington, DC 20210.

SUPPLEMENTARY INFORMATION: This notice contains all of the necessary information and forms needed to apply for the cooperative agreement described below. Additional forms can be obtained from the following OMB Web site address: http://www.whitehouse.gov/OMB/grants/forms.html.

I. Funding Opportunity Description and Authority

A. Description and Purpose

ODEP will award one cooperative agreement to a Research Consortium that will develop a standard case study research design, and conduct case study research to assess how corporate structures, values, policies and day-to-day practices facilitate the employment, retention and promotion of people with disabilities within the studied organization. These case studies will validate and document effective policies and strategies within corporations that have had success in recruiting, hiring, and retaining people with disabilities.

This SGA seeks to fill a gap in existing research. Researchers have acknowledged the importance of better understanding how an organization's values, policies, and practices impact employees with disabilities and that it “would be valuable to compile detailed case studies of companies that have made concerted efforts to increase the hiring, retention and promotion of employees with disabilities.” (Schur, Kruse, & Blanck, 2005, p. 15)

A critical aspect of this project is the development and application of a standard research design that will be used by the Research Consortium members to conduct multiple case studies of companies that have been successful in employing people with disabilities and assess how these organizations created an atmosphere that benefited people with disabilities and the organization as a whole. Each Research Consortium member will be responsible for conducting at least one company case study. The information generated will result in individual case studies that can serve as models for other employers. The lead entity in the Research Consortium will be responsible for conducting a cross-case analysis to identify strategies utilized by successful companies that promote employment of people with disabilities, allow comparative analysis across different corporate settings, and facilitate the development and dissemination of model practices and policy recommendations.

The lead entity will coordinate a product development and dissemination plan to produce reports for the individual case studies, a cross-case analysis report, and a series of topical research briefs that will be disseminated to employer and industry associations and used in academic settings such as business school curriculums and professional development courses to educate future business leaders.

B. Background

The Office of Disability Employment Policy (ODEP) provides national leadership by developing and influencing disability-related employment policies and practices. A five-year strategic plan guides ODEP in achieving its mission by identifying long-term strategic and outcome goals as well as shorter-term intermediate and performance goals. In addition to measuring agency performance, as required by the Government Performance and Results Act (GPRA), the strategic plan sets forth a road map for prioritizing the formulation and dissemination of innovative employment policies and practices to service delivery systems and employers.

ODEP's annual goal is to build knowledge and advance disability employment policy that affects and promotes systems change. The agency's long- and short-term goals focus efforts on initiatives that bring about this level of change. In short, ODEP develops policies and strategies that will:

• Enhance the capacity of service delivery systems to provide appropriate and effective services and supports to youth and adults with disabilities;

• Increase planning and coordination within service delivery systems to develop and improve systems, processes, and services;

• Improve individualization of services to better assist youth and adults with disabilities in seeking, obtaining, and retaining employment or self-employment;

• Increase employer access to supports and services to meet their employment needs;

• Increase the quality of competency-based training for service delivery systems;

• Increase the adoption of universal strategies for service provision; and

• Develop partnerships with and among critical stakeholders to effectively leverage available resources and facilitate implementation of practices and policies that increase employment and self-employment opportunities and the recruitment, retention, and promotion of youth and adults with disabilities.

Three measures serve to inform ODEP's annual progress: the number of policy-related documents; the number of formal agreements; and the number of effective practices. These performance results support achievement of the intermediate outcome goals:

• Accessible employment resources;

• Coordinated programs, processes, and services; and

• Adoption of effective practices.

Achievement of these intermediate outcome goals, in turn, supports achievement of the long-term service delivery systems outcome goals, which are marked by increases in these areas:

• Capacity of service delivery systems;

• Planning and coordination within service delivery systems; and

• Employer access to supports and services for recruitment, retention, and promotion.

According to the 2000 Census, people between the ages of 16 and 64 were less likely to be employed if they were disabled. The employment rate of Americans with disabilities of working age in 2000 was only around 56 percent, far below the national average. One reason for the lower employment rate of people with disabilities is believed to be the negative attitudes that still exist among employers, supervisors, and workers (Hernandez et al, 2000; Unger, 2002). In fact, surveys of employers seem to consistently cite attitudes and stereotypes as major barriers to employment for people with disabilities (Dixon, Kruse, & Van Horn, 2003; Bruyère, 2000).

Research shows that a major contributor to attitudes or atmosphere in the workplace is an organization's “culture.” Edgar Schein (1992) has defined corporate culture as “a pattern of shared basic assumptions that the group learned as it solved its problems of external adaptation and internal integration, that has worked well enough to be considered valid and, therefore, to be taught to new members as the correct way to perceive, think, and feel in relation to those problems” (p.12). Stone and Collela (1996) note that, “an organization's norms and values identify the types of behaviors that are appropriate and provide moral justification for organizational policies and practices” (p. 373). The literature on disability employment policy has further identified the need to understand the “corporate culture” of companies in order to create employment opportunities for people with disabilities (Schur, Kruse & Blanck, 2005).

In identifying a specific need for further study in this area, researchers have gone on to state that not only is there a need for “more data collected in actual workplace settings to determine the impact of corporate culture on employees with disabilities,” (Schur, Kruse & Blanck, 2005, p. 15) but that,

[i]t also would be valuable to compile detailed case studies of companies that have made concerted efforts to increase the hiring, retention and promotion of employees with disabilities. This would allow comparisons to be made of policies in different corporate settings, help identify “what works” in companies that have been successful in employing individuals with disabilities, and facilitate the development of “best practices” that serve as models for other employers. (Schur, Kruse, & Blanck, 2005, p.15)

The purpose of this Research Consortium proposed by ODEP is to conduct this much needed research. A critical element of this endeavor is the development and application of a standard research design that will be used by the Research Consortium members to conduct multiple case studies of companies that have been successful in employing people with disabilities and assess how these organizations created an atmosphere that benefited people with disabilities and the organization as a whole. A multi-case analysis will identify strategies utilized by successful companies that promote employment of people with disabilities, allow comparative analysis across different corporate settings, and facilitate the development and dissemination of model practices and policy recommendations.

Examples of individual companies that have been successful in employing people with disabilities can be found in both the business and research literature, and within the business community. For example, the Secretary of Labor has recognized successful businesses through the Secretary of Labor's New Freedom Initiative (NFI) Award. Other information sources include the Business Leadership Network, Business Advisory Councils, and the U.S. Chamber of Commerce.

The information generated will result in individual case studies that will serve as models for other employers. The case studies, comparative analysis, and topical research briefs will be disseminated through employer and industry associations and used in academic settings such as business school curriculums and professional development courses to educate future business leaders.

II. Award Information

The U.S. Department of Labor (“DOL” or “Department”), Office of Disability Employment Policy (“ODEP”), announces the availability of up to $500,000 to fund one cooperative agreement for an 18-month period of performance. The goal of the cooperative agreement is for a Research Consortium to develop a standard design and conduct case study research assessing the impact of an organization's structures, values, policies and day-to-day practices on employees with disabilities, and to validate and document model practices within corporations that are effective in increasing the recruitment, hiring, retention and promotion of people with disabilities.

This ODEP Cooperative Agreement anticipates substantial involvement between ODEP and the awardee during the performance of this project. Involvement will include collaboration or participation by ODEP in the overall direction of the project throughout the period of the award. ODEP will provide expertise and guidance in decisions involving the research focus, approaches/methodologies, strategies, allocation of resources, staffing, development of public information materials, analysis, and dissemination of research findings, including a final report.

Specifically, USDOL involvement will consist of:

• Approval of any sub-contract awarded by the grantee(s);

• Participation in site visits to project areas;

• Providing advice and consultation to the Grantee(s) on specific program criteria;

• Providing the Grantee(s) with technical and programmatic support, including training in USDOL monitoring and evaluation systems, and standard procedures regarding USDOL management of cooperative agreements;

• Reviewing, at reasonable times, all documents pertaining to the project, including status and technical progress reports, and financial reports;

• Discussing administrative and technical issues pertaining to the project;

• Approving candidates for all key personnel positions, and sub-contractors or sub-recipients;

• Approving all press releases and publicity materials regarding the project;

• Drafting terms of reference for, and participating in project evaluations; and

• Dissemination of research findings, including a final report.

Note: Selection of an organization as a Grantee does not constitute approval of the grant application as submitted. Before the actual grant is awarded, USDOL may enter into negotiations about such items as program components, staffing and funding levels, and administrative systems in place to support grant implementation. If the negotiations do not result in a mutually acceptable submission, the Grant Officer reserves the right to terminate the negotiation and decline to fund the application.

III. Eligibility Information

1. Eligible Applicants

Applications will be accepted from consortia whose members may be profit and non-profit organizations that may include but are not limited to institutions of higher education, limited liability organizations, State and local government entities, and faith-based and community organizations. The consortium must have a lead entity and at least two (2) additional entities, all of which have demonstrated knowledge of and experience in: (a) Designing and conducting qualitative research studies, including business case studies, and summarizing these findings to both academic and business sectors; (b) studying corporate culture from both a broad perspective and in terms of its impact on employment of people with disabilities; and (c) building relationships or collaborating with or gaining access to employers.

Applications must identify the lead entity for the agreement and identify members of the consortium. The named lead entity will have daily fiscal and operational responsibility for cooperative agreement activities.

According to Section 18 of the Lobbying Disclosure Act of 1995, an organization, as described in Section 501(c)(4) of the Internal Revenue Code of 1986, that engages in lobbying activities will not be eligible for the receipt of Federal funds constituting an award, grant, or loan. See 2 U.S.C. 1611; 26 U.S.C. 501(c) (4). Funding restrictions apply. See Section IV (5).

2. Cost Sharing

Cost sharing, matching funds, and cost participation are not required under this SGA.

3. Other Eligibility Requirements

Legal rules pertaining to inherently religious activities by organizations that receive Federal Financial Assistance: Neutral, non-religious criteria that neither favor nor disfavor religion will be employed in the selection of grant recipients and must be employed by grantees or in the selection of sub-recipients.

The government is generally prohibited from providing direct financial assistance for inherently religious activities.¹ These grants may not be used for religious instruction, worship, prayer, proselytizing or other inherently religious activities. Neutral, non-religious criteria that neither favor nor disfavor religion must be employed in the selection of grant recipients and sub-recipients.

¹ In this context, the term direct financial assistance means financial assistance that is provided directly by a government entity or an intermediate organization, as opposed to financial assistance that an organization receives as the result of the genuine and independent private choice of a beneficiary. In other contexts, the term ‘direct’ financial assistance may be used to refer to financial assistance that an organization receives directly from the Federal government (also known as “discretionary” assistance), as opposed to assistance that it receives from a State or local government (also knows as “indirect” or “block” grant assistance). The term “direct” has the former meaning throughout this SGA.

While these cooperative agreements are not to provide direct service, if any component comes to involve veterans, then the following shall apply: Activities subject to the provisions of the “Jobs for Veterans Act,” Public Law 107-288, which provides priority of service to veterans and certain of their spouses in all Department of Labor-funded job training programs. Please note that, to obtain priority of service, a veteran must meet that program's eligibility requirements. Comprehensive policy guidance is being developed and will be issued in the near future.

IV. Application and Submission Information

1. Addresses To Request Application Package

This SGA contains all the information and forms needed to apply for this grant funding. Application announcements or forms will not be mailed. The Federal Register may be obtained from your nearest government office or library. In addition, a copy of this notice and the application requirements may be downloaded from ODEP's Web site at http://www.dol.gov/odep and at http://www.grants.gov. If additional copies of the standard forms are needed, they can also be downloaded from: http://www.whitehouse.gov/omb/grants/grants_forms.html.

2. Content and Form of Application Submission

General Requirements: Applicants must submit one (1) paper copy with an original signature in blue ink, and two (2) additional paper copies of the signed proposal. To aid with the review of applications, DOL also requests applicants to submit an electronic copy of their proposal's Sections II (Executive Summary) and III (Project Narrative) on disc or Compact Disc (CD) using Microsoft Word. The application (not to exceed 50 pages for Section III), must be double-spaced with standard one-inch margins (top, bottom, and sides) on 8½ x 11-inch paper, and must be presented on single-sided and numbered pages. A font size of at least twelve (12) pitch is required throughout. All text in the application narrative, including titles, headings, footnotes, quotations, and captions must be double-spaced (no more than three lines per vertical inch); and, if using a proportional computer font, must be in at least a 12-point font, and must have an average character density no greater than 18 characters per inch (if using a non-proportional font or a typewriter, must not be more than 12 characters per inch). Applications that fail to meet these requirements will be considered non-responsive.

Cooperative Agreement Mandatory Application Requirements

The three required sections of the application are titled below and described thereafter:

Section I. Project Financial Plan (Budget)—No page limit

Section II. Executive Summary (Project Synopsis)—Not to exceed two (2) pages

Section III. Project Narrative—Not to exceed fifty (50) pages

The mandatory requirements for each section are set forth below. Applications that fail to meet the stated mandatory requirements for each section will be considered non-responsive.

Section I. Project Financial Plan (Budget). The Project Financial Plan will not count against the application page limits. Section I of the application must include the following three required parts:

(1) Completed “SF-424—Application for Federal Assistance.” Please note that, beginning October 1, 2003, all applicants for federal grant and funding opportunities are required to include a Dun and Bradstreet (DUNS) number with their application. See OMB Notice of Final Policy Issuance, 68 FR 38402 (June 27, 2003). The DUNS number is a nine-digit identification number that uniquely identifies business entities. There is no charge for obtaining a DUNS number (although it may take 14-30 days). To obtain a DUNS number, access the following Web site: http://www.dunandbradstreet.com or call 1-866-705-5711. Requests for exemption from the DUNS number requirement must be made to OMB. The Dun and Bradstreet Number of the applicant should be entered in the “Applicant Information” section of block 8(c) of the SF-424. (See Appendix A of this SGA for required form)

(2) Completed SF-424 A—Budget Information Form by line item for all costs required to implement the project design effectively. (See Appendix B of this SGA for required forms)

(3) DOL Budget Narrative and Justification that provides sufficient information to support the reasonableness of the costs included in the budget in relation to the service strategy and planned outcomes, including continuous improvement activities.

The SF-424 must contain the original signatures in blue ink of the legal entity applying for Cooperative Agreement funding and two additional copies. The individual signing the SF-424 on behalf of the applicant must represent and be able to legally bind the responsible financial and administrative entity for a Cooperative Agreement should that application result in an award. Applicants shall indicate on the SF-424 the organization's Internal Revenue Service (IRS) status (e.g., 501(c)(3) organization), if applicable.

The DOL Budget Narrative and Justification must describe all costs associated with implementing the project that are to be covered with Cooperative Agreement funds. At a minimum, include breakout of all personnel costs by position, title, annual salary rates, and percentage of time of each position to be devoted to the proposed project (including sub-grantees). Explanation and breakout of extraordinary fringe benefit rates and associated charges are to be included (i.e., rates exceeding 35% of salaries and wages). Explanation of the purpose and composition of, and methodology used to derive the costs of each of the object class categories identified on the SF 424A are also expected. The budget must support the travel and associated costs of sending at least one representative to meetings with DOL staff in Washington, DC (at least once per quarter) to be held in Washington, DC, at a time and place to be determined. In addition to administrative requirements identified in Section VI (2) of this SGA, the applicant must comply with the “Uniform Administrative Requirements for Grants and Cooperative Agreements to State and Local Governments” (also known as OMB Circular A-102), codified at 29 CFR Part 97, or “Grants and Agreements with Institutions of Higher Education, Hospitals, and Other Non-Profit Organizations” (also known as the “Common Rule” or OMB Circular A-110), codified at 2 CFR Part 215 and 29 CFR Part 95.

In addition, the budget submitted for review by DOL must include, on a separate page, a detailed cost analysis of each line item. The costs listed in the detailed cost analysis must comply with the applicable OMB cost principles circulars, as identified in 29 CFR 95.27 and 29 CFR 97.22(b). Justification for administrative costs must be provided. Indirect costs will be capped at 15 percent. Approval of a budget by DOL is not the same as the approval of actual costs. The applicant must also include the Assurances and Certifications Signature Page (Appendix C) and the Survey on Ensuring Equal Opportunity for Applicants (Appendix D).

Section II. Executive Summary (Project Synopsis). The Executive Summary may not be more than two single-spaced pages in length giving a clear summary of the project. This summary must include the following information:

(1) The applicant's name and qualifications;

(2) the planned period of performance;

(3) a list of all consortium members and their qualifications; and

(4) an overview of how the applicant will carry out the research required and present the findings.

Section III. Project Narrative. Applications must include a Project Narrative that addresses the work proposed to be accomplished under the cooperative agreement, and the evaluation/selection criteria in Part V(1) that will be used by reviewers in evaluating the application.

Applicants must limit Section III to the equivalent of not more than 50 pages using the following standard. This page limit does not apply to Section I, the Project Financial Plan (Budget), Section II, the Executive Summary and the Appendices (the assurances and certifications, resumes, a bibliography or references, and the documentation of commitment/formal agreement/letters of support and other materials relevant to the application). A page is 8.5″ x 11″ (on one side only) with one-inch margins (top, bottom, and sides). All text in the application narrative, including titles, headings, footnotes, quotations, and captions must be double-spaced (no more than three lines per vertical inch); and, if using a proportional computer font, use no smaller than a 12-point font, and an average character density no greater than 18 characters per inch (if using a non-proportional font or a typewriter, do not use more than 12 characters per inch.)

The successful applicant will be a Research Consortium and will describe in their Project Narrative their innovative and comprehensive plan for accomplishing the activities described in Part I (A), Description and Purpose, above. The applicant must describe their procedures and approaches for partnering with employers.

The Project Narrative must:

(1) Identify members of the consortium (including the lead entity, a minimum of 3 consortium members is required) and provide documentation (such as letters of intent and memorandum of agreement which will be included in an Appendix) of a formal agreement of participation;

(2) Demonstrate each of the consortium members' experience in conducting qualitative analysis in corporate settings;

(3) Describe a proposed standard design that each member of the consortium will use to conduct one or more case studies of individual companies and produce a case study report;

(4) Identify criteria for selection of case studies and describe the process for ensuring employer involvement;

(5) Describe how each consortium member will apply the standard design, conduct the case study, and produce a report of its findings;

(6) Identify how the lead entity will conduct a comprehensive cross-case analysis to identify strategies utilized by successful companies that promote employment of people with disabilities and how the lead entity will produce a comparative analysis report; and

(7) Identify how the applicant proposes to disseminate research findings and products (including but not limited to the individual case studies, cross-case comparative analysis, and topical research briefs), using accessible formats, to employer and industry associations and to educational institutions for use in business school curriculums and professional development courses to educate future business leaders.

Each Project Narrative must include:

(1) A detailed 18 month management plan for project goals, objectives, and activities;

(2) A detailed 18 month timeline for project activities, including producing and submitting a final report;

(3) A detailed outline for an evaluation of the project (see Section VI, part 3 for more information);

(4) A description of procedures and approaches that will be used to provide ongoing communication, collaboration with, and input from ODEP's Project Officer on all grant-related activities.

Proposals are expected to include clearly defined research designs, which may include such options as surveys, quasi-experimental studies, observational research methodologies and others. To the extent surveys are included in the final research design the grantee will be responsible for designing those surveys in conjunction with ODEP and working with ODEP to develop an OMB clearance package and ensuring appropriate clearances. Surveys may be mixed mode (mail, Internet and phone) and should be designed to achieve an overall response rate of at least 80%. After selection, depending upon the type of questions specified and research design proposed, ODEP reserves the right to modify the research design, as appropriate. Investigators also will be required to develop outcome measures, instruments, and data analysis procedures so that study findings are reportable.

The Project Narrative must describe the proposed staffing for the project and must identify and summarize the qualifications of the personnel who will carry it out. In addition, the evaluation criteria listed in Section V (1) include consideration of the qualifications, including relevant education, training and experience of key project personnel, as well as the qualifications, including relevant training and experience, of project consultants or subcontractors. Resumes must be included in the appendices. Key personnel include: Principle Investigator, Project Director, Project Coordinator, Project Manager, Research analyst, etc. Minimum qualifications should be commensurate with the role identified in the application. In addition, the applicant must specify in the application, the percentages of time to be dedicated by each key person on the project.

For each staff person named in the application, please provide documentation of all internal and external time commitments. In instances where a staff person is committed on a Federally supported project, please provide the project name, Federal office, program title, the project Federal award number, and the amount of committed time by each project year. This information (e.g., Staff: Jane Doe; Project Name: Succeeding in the General Curriculum; Federal office: Office of Special Education Programs; Program title: Field Initiated Research; Award number: H324C980624; Time commitments: Year 1-30%; Year 2-25% and Year 3-40%) can be provided as an Appendix to the application.

In general, ODEP will not reduce time commitments on currently funded grants from the time proposed in the original application. Therefore, we will not consider for funding any application where key staff are bid above a time commitment level that staff have available to bid. Further, the time commitments stated in newly submitted applications will not be negotiated down to permit the applicant to receive a new grant award.

The Project Narrative should also describe how the applicant plans to comply with the employment discrimination and equal employment opportunity requirements of the various laws listed in the assurances section.

3. Submission Dates, Times, and Addresses

Applications will be accepted commencing May 10, 2006. The closing date for receipt of applications by DOL under this announcement is June 9, 2006.

Applications, including those hand-delivered, must be received by 4:45 p.m. (ET) on the closing date at the address specified below. No exceptions to the mailing and hand-delivery conditions set forth in this notice will be granted. Applications that do not meet the conditions set forth in this notice will be considered non-responsive.

Applications must be mailed or hand-delivered to: U.S. Department of Labor, Procurement Services Center, Attention: Cassandra Mitchell, Reference SGA 06-01, Room N-5416, 200 Constitution Avenue, NW., Washington, DC 20210. Applications sent by e-mail or telefacsimile (FAX) will not be accepted.

Hand-Delivered Proposals: It is preferred that applications be mailed at least five (5) days prior to the closing date to ensure timely receipt. Hand-delivered applications will be considered for funding, but must be received by the above specified date and time. Overnight express delivery from carriers other than the U.S. Postal Service will be considered hand-delivered applications. Failure to adhere to the above instructions will serve as a basis for a determination of non-responsiveness.

Applicants are advised that mail in the Washington, DC area may be delayed due to mail decontamination procedures and may wish to take this information into consideration when preparing to meet the application deadline.

Late Applications: Any application received by the designated office after the exact date and time specified will be considered non-responsive, unless it is received before awards are made and it: (a) Is determined that its late receipt was caused by DOL error after timely delivery to the Department of Labor; (b) was sent by U.S. Postal Service registered or certified mail not later than the fifth calendar day before the date specified for receipt of applications (e.g., an application submitted in response to a solicitation requiring receipt of applications by the 20th of the month must have been postmarked by the 15th of that month); or (c) was sent by the U.S. Postal Service Express Mail Next Day Service to addressee not later than 5 p.m. at the place of mailing two (2) working days prior to the date specified for receipt of applications. The term “working days” excludes weekends and Federal holidays. “Postmarked” means a printed, stamped, or otherwise placed impression (exclusive of a postage meter machine impression) that is readily identifiable without further action as having been supplied or affixed on the date of mailing by an employee of the U.S. Postal Service.

Withdrawal of Applications: An application that is timely submitted may be withdrawn by written notice or telegram (including mailgram) at any time before an award is made. Applications may be withdrawn in person by the applicant or by an authorized representative thereof, if the representative's identity is made known and the representative signs a receipt for the proposal.

4. Intergovernmental Review

This funding opportunity is not subject to Executive Order 12371, “Intergovernmental Review of Federal Programs.”

5. Funding Restrictions

(a) Funding Levels: The total funding available for this solicitation is $500,000. The Department of Labor reserves the right to negotiate the amount to be awarded under this competition. Please be advised that requests exceeding the maximum stated amount in the Executive Summary section of this solicitation will be considered non-responsive. Additionally, there will be no reimbursement of pre-award costs.

(b) Period of Performance: The period of performance will be for 18 months from date of the award unless modified. It is expected that the successful applicant will begin program operations under this solicitation immediately upon receiving the “Notice of Award.”

(c) Option Year Funding: Not applicable.

(d) Indirect Charges: If indirect charges are claimed in the proposed budget, the recipient must provide on a separate sheet, the following information:

(1) Name and address of cognizant Federal Audit Agency;

(2) Name, address and phone number (including area code) of the Government auditor;

(3) Documentation from the cognizant agency indicating:

(a) Current Indirect cost rate and the base against which the rate should be applied;

(b) Effective period (dates) for the rate; and

(c) Date last rate was computed and negotiated;

(4) If no government audit agency computed and authorized the rate claimed, a proposed rate with justification may be submitted to provide a brief explanation of computation, who computed and the date; successful applicants will be required to negotiate an acceptable and allowable rate within 90 days of grant award with the appropriate DOL Regional Office of Cost Determination or with the applicant's cognizant agency for indirect cost rates (See Office of Management and Budget Web site at http//www.whitehouse.gov/omb/grants/attach.html). The recipient shall call the Office of Cost Determination at 202-693-4100 for the initial contact.

However, applications claiming an indirect cost rate greater than 15% will not be considered.

V. Application Review Information

1. Evaluation Criteria

Proposals will be evaluated on the basis of the following criteria, as further described below:

(1) The significance of the proposed project;

(2) the quality of the design of the research activities;

(3) the organizational capacity and quality of key personnel;

(4) budget and resource capacity;

(5) the quality of the management plan; and

(6) the quality of project evaluation.

Maximum point values are shown for each criterion.

A. Significance of the Proposed Project (10 Points)

In determining the significance of the proposed project, the Department will consider the following factors:

1. The potential contribution of the proposed research to increase knowledge or understanding of the stated problems, issues, or effective strategies;

2. The extent to which the research activities proposed reflect a coherent, sustained approach to research in the field, including a substantial addition to the existing literature;

3. The extent to which the proposed research is likely to yield findings that can be used by other appropriate agencies and organizations; and

4. The extent to which the plans for dissemination and reporting of results and findings are of sufficient quality and intensity, and account for the accessibility needs of individuals with disabilities.

B. Quality of the Research Design (25 Points)

In evaluating the quality of the proposed project design, the Department will consider the following factors:

1. The extent to which the goals, objectives, and outcomes to be achieved by the proposed research are clearly specified and measurable;

2. The extent to which the methodology of each proposed research activity is meritorious, including a comprehensive and informed review of the current literature;

3. The extent to which the proposal provides a comprehensive description of a research plan that outlines specific elements of the anticipated research and incorporates the key activities identified in the Project Narrative of this SGA (IV (2), Section III) ;

4. The extent to which the design of the proposed project incorporates measures adequate to facilitate ODEP's external evaluation;

5. The extent to which the proposal details criteria for selection of case studies and describes the process for ensuring employer involvement and participation;

6. The adequacy of the documentation submitted in support of the proposed research design to demonstrate the commitment of each applicant and their consortium members and the quality of the plan that the applicant will use to recruit, enlist, and secure cooperation of other experts;

7. The extent to which the applicant encourages involvement of people with disabilities, relevant experts, and organizations in project activities; and

8. The extent to which performance feedback and continuous improvement are integral to the design of the proposed project.

C. Organizational Capacity and Quality of Key Personnel (20 Points)

Applications will be evaluated based on the extent to which the consortium's key personnel demonstrate organizational capacity to conduct the proposed research, including:

(1) Broad representation across multiple disciplines;

(2) experience with similar projects;

(3) qualifications and experience of the consortium's leadership;

(4) commitment to developing and sustaining work across key stakeholders;

(5) experience and commitment of any proposed consultants or subcontractors; and

(6) appropriateness of the organization's structure to carry out the project.

D. Budget and Resource Capacity (10 Points)

In evaluating the capacity of the applicant to carry out the proposed project, the Department will consider the following factors:

1. The applicant's demonstrated experience in managing resources to conduct research on corporate culture and employment of people with disabilities;

2. The extent to which the budget is adequate to support the proposed research project; and

3. The extent to which the anticipated costs are reasonable in relation to the objectives, design, and potential significance of the proposed project.

E. Quality of the Management Plan (20 Points)

In evaluating the quality of the management plan for the proposed project, the Department will consider the following factors:

1. The extent to which the management plan for project implementation appears likely to achieve the objectives of the proposed project on time and within budget, and includes clearly defined staff responsibilities, time allocation to project activities, time lines, milestones for accomplishing project tasks, and project deliverables;

2. The adequacy of mechanisms for ensuring high-quality products, including the reporting of research findings for the proposed project and plan for product dissemination; and

3. The extent to which the time commitments of the project director and principal investigator and other key project personnel are appropriate and adequate to meet the objectives of the proposed project.

F. Quality of Project Evaluation (15 Points)

In evaluating the quality of the proposed project evaluation, the Department will consider the following factors:

1. The extent to which the research methods of evaluation are thorough, feasible, and appropriate to the goals, objectives, context, and outcomes of the proposed project;

2. The extent to which the evaluation will provide information to the Federal and State governments and other employers about the impact of corporate culture on employment of people with disabilities; and

3. The extent to which the methods of evaluation provide measures that will inform ODEP's annual performance goals and measures and ODEP's long-term strategic goals.

2. Review and Selection Process

A technical review panel will objectively rate each complete application against the criteria described in this SGA. The panel recommendations to the Grant Officer, including any point scores, are advisory in nature. The Grant Officer may elect to award a grant either with or without discussion with the applicant. In situations where no discussion occurs, an award will be based on the signed SF-424 form (see Appendix A), which constitutes a binding offer. The Grant Officer may consider the availability of funds and any information that is available and will make final award decisions based on what is most advantageous to the government, considering factors such as: the advisory recommendations from the grant technical evaluation panel; and the availability of funds.

3. Anticipated Announcement and Award Dates

Announcement of this award is expected to occur within 30 days of award. The grant/cooperative agreement will be awarded by no later than September 30, 2006.

VI. Award Administration Information

1. Award Notices

The Notice of Award signed by the Grant Officer is the authorizing document and will be provided through United States Post Office mail and/or by electronic means to the authorized representative listed on the SF-424 Grant Application. Notice that an organization has been selected as a grant recipient does not constitute final approval of the grant application as submitted. Before the actual grant award, the Grant Officer and/or the Grant Officer's Technical Representative may enter into negotiations concerning such items as program components, funding levels, and administrative systems. If the negotiations do not result in an acceptable submittal, the Grant Officer reserves the right to terminate the negotiation and decline to fund the proposal.

2. Administrative and National Policy Requirements

All grantees, including faith-based and community organizations, will be subject to applicable Federal laws (including provisions of appropriations law), regulations, and the applicable Office of Management and Budget (OMB) Circulars. The grant(s) awarded under this SGA will be subject to the following administrative standards and provisions, and requirements applicable to particular entities. The applicant must include assurances and certifications that it will comply with these laws in its grant application. The assurances and certifications are attached in Appendix C.

A. Regulations

• 29 CFR Parts 31 and 32—Nondiscrimination in Federally Assisted Programs of the Department of Labor (respectively, effectuation of Title VI of Civil Rights Act of 1964, and on the Basis of Handicap in Programs and Activities Receiving or Benefiting from Federal Financial Assistance)

• 29 CFR Part 35—Nondiscrimination on the Basis of Age in Programs or Activities receiving Federal Financial Assistance from the Department of Labor

• 29 CFR Part 36—Nondiscrimination on the Basis of Sex in Education Programs or Activities Receiving Federal Financial Assistance

• 29 CFR Part 93—New Restrictions on Lobbying.

• 29 CFR Part 95—Uniform Administrative Requirements for Grants and Agreements with Institutions of Higher Education, Hospitals and Other Non-Profit Organizations, and with Commercial Organizations, Foreign Governments, Organizations Under the Jurisdiction of Foreign Governments and International Organizations.

• 29 CFR Part 96—Federal Standards for Audit of Federally Funded Grants, Contracts and Agreements.

• 29 CFR Part 97—Uniform Administrative Regulations for Grants to States, Local Governments or Tribes.

• 29 CFR Part 98—Federal Standards for Governmentwide Debarment and Suspension (Nonprocurement) and Governmentwide Requirements for Drug-Free Workplace (Grants).

• 29 CFR Part 99—Federal Standards for Audits of States, Local Governments, and Non-Profit Organizations.

• 29 CFR Part 2—General Participation in Department of Labor Programs by Faith-Based and Community Organizations; Equal Treatment of All Department of Labor Program Participants and Beneficiaries.

• Applicable cost principles under OMB Circulars A-21, A-87, A-122, or 48 CFR Part 31.

B. Travel

Any travel undertaken in performance of this cooperative agreement shall be subject to and in strict accordance with Federal travel regulations.

C. Acknowledgement of USDOL Funding

Printed Materials: In all circumstances, the following shall be displayed on printed materials prepared by the grantee while in receipt of DOL grant funding: “Preparation of this item was funded by the United States Department of Labor under SGA 06-01.”

• All printed materials must also include the following notice: “This document does not necessarily reflect the views or policies of the U.S. Department of Labor, nor does mention of trade names, commercial products, or organizations imply endorsement by the U.S. Government.”

Public reference to grant: When issuing statements, press releases, requests for proposals, bid solicitations, and other documents describing projects or programs funded in whole or in part with Federal money, all Grantees receiving Federal funds must clearly state:

• The percentage of the total costs of the program or project, which will be financed with Federal money;

• The dollar amount of Federal financial assistance for the project or program; and

• The percentage and dollar amount of the total costs of the project or program that will be financed by non-governmental sources.

Use of USDOL Logo: In consultation with USDOL ODEP, the Grantee must acknowledge USDOL's role as described below:

• The USDOL logo may be applied to USDOL-funded material prepared for world-wide distribution, including posters, videos, pamphlets, research documents, national survey results, impact evaluations, best practice reports, and other publications of global interest. The Grantee(s) must consult with USDOL on whether the logo may be used on any such items prior to final draft or final preparation for distribution. In no event shall the USDOL logo be placed on any item until USDOL has given the Grantee written permission to use the logo on the item.

• All documents must include the following notice: “This document does not necessarily reflect the views or policies of the U.S. Department of Labor, nor does mention of trade names, commercial products, or organizations imply endorsement by the U.S. Government.”

D. Intellectual Property

Please be advised that DOL will reserve a royalty-free, nonexclusive, and irrevocable license to reproduce, publish, distribute, publicly display and perform, and create derivative works from, and to authorize others to use, for Federal Government purposes: (1) The copyright in any work developed under a grant, subgrant, or contract under a grant or subgrant; and (2) any rights of copyright to which a grantee, subgrantee or a contractor purchases ownership with grant support.

In addition, the grantee will agree to notify DOL of any pre-existing copyrighted materials it intends to incorporate into materials developed under the grant, and, prior to such incorporation, the grantee will agree that it will acquire, on behalf of DOL, any necessary licenses to allow DOL to exercise the rights described in the paragraph above.

E. Approval of Key Personnel and Subcontractors

The recipient shall notify the Grant Officer at least 14 calendar days in advance if any key personnel are to be removed or diverted from the cooperative agreement, shall supply written justification as part of this notice as to why these persons are to be removed or diverted, shall provide the names(s) of the proposed substitute or replacement, and shall include information on each new individual, including such qualifications as education and work experience.

F. Reporting and Monitoring

The selected applicant must submit on a quarterly basis, beginning 90 days from the award of the grant, financial and activity reports under this program as prescribed by OMB Circular A-110 codified at 2 CFR Part 215 and 29 CFR Part 95. Specifically the following reports will be required:

1. Quarterly report: The form for the Quarterly Report will be provided by ODEP. The Department will work with the grantee to help refine the requirements of the report, which, among other things, will include measures of ongoing analysis for continuous improvement. This report will be filed using an on-line reporting system. The form will be submitted within 30 days of the close of the quarter;

2. Standard Form 269 Financial Status Report Form: This form is to be completed and submitted on a quarterly basis using the on-line electronic reporting system; and

3. Final Project Report: The Final Project Report is to include an assessment of project performance and outcomes achieved. This report will be submitted in hard copy and on electronic disk using a format, and following instructions, to be provided by the Department. A draft of the final report is due to the Department sixty (60) days before the end of the period of performance of the cooperative agreement. The final report is due to DOL ten (10) days before the end of the period of performance of the cooperative agreement.

The Department will arrange for an independent evaluation of the outcomes, impacts, accomplishments, and benefits of the project. The selected applicant must make records and data available to external evaluation personnel, as specified by the Department. All grantees must agree to cooperate with this evaluation and must make available records on all parts of project activity and provide access to personnel, as specified by the evaluator(s), under the direction of the ODEP. This independent evaluation is separate from the ongoing evaluation for continuous improvement required of the grantee for project implementation.

Project efforts will complement those of ODEP's technical assistance efforts, including: the National Center on Workforce and Disability for Adults (NCWD/A); the National Consortium on Workforce and Disability for Youth (NCWD/Y), the Job Accommodation Network (JAN), and the Employer Assistance Recruiting Network (EARN). Grantees must also agree to work with the ODEP in its other efforts in order to freely share with others what is learned. Grantees must agree to collaborate with other research institutes, centers, studies, and evaluations that are supported by the DOL and other relevant Federal agencies, as appropriate. Finally, Grantees must agree to utilize, when relevant, the programs sponsored by the ODEP, including the Job Accommodation Network, (http://www.jan.wvu.edu), and the Employer Assistance and Recruiting Network (http://www.earnworks.com).

G. Certification and Release by Corporate Subjects

Grantees shall notify any person from whom they gather information pursuant to this study, that such information may be submitted to DOL and may be published. Before submitting any such information to DOL, Grantee will obtain from such person the following certification and release, and will submit it to DOL:

On behalf of the company named below, I certify that the company has been advised that any information provided to the Grantee is being gathered pursuant to a Department of Labor (DOL) grant, and that such information may be disclosed to DOL and the public. I hereby release Grantee and DOL from any obligation or liability in connection therewith.

______________Date

Name

Title

Company

VII. Agency Contacts

Any questions regarding this SGA should be directed to Cassandra Mitchell, e-mail address: mitchell.cassandra@dol.gov, tel: 202-693-4570 (note that this is not a toll-free number). To obtain further information about the Office of Disability Employment Policy of the U.S. Department of Labor, visit the USDOL Web site of the Office of Disability Employment Policy at http://www.dol.gov/odep.

VIII. Other Information

1. References

Bruyère, S.M., Erickson, W.A., & VanLooy, S. (2000). HR's role in managing disability in the workplace. Employment Relations Today, 27 (3), 47-66.

Dixon, K.A., Kruse, D., & Van Horn, C.E. (2003). Restricted access: A survey of employers about people with disabilities and lowering barriers to work. New Brunswick, NJ: Rutgers University, John J. Heldrich Center for Workforce Development.

Hernandez, B., Keys, C. & and Balcazar, F. (2000). Employer attitudes toward workers with disabilities and their ADA employment rights: A literature review. Journal of Rehabilitation, 66 (4), 4-16.

Schein, E.H. (1992). Organizational culture and leadership (2nd ed.). San Francisco, CA: Jossey-Bass.

Schur, L., Kruse, D., & Blanck, P. (2005). Corporate culture and the employment of people with disabilities. Behavioral Sciences and the Law, 23, 3-20.

Stone, D.L. & Colella, A. (1996). A model of factors affecting the treatment of disabled individuals in organizations. Academy of Management Review, 21 (2), 352-401.

Unger, D.D. (2002). Employers' attitudes toward persons with disabilities in the workforce: myths or realities? Focus on Autism and Other Developmental Disabilities, 17 (1), 2-10.

2. Appendices

The appendices are as follows:

Appendix A.—Application for Federal Assistance, Form SF-424

Appendix B.—Budget Information Sheet, Form SF-424A

Appendix C.—Assurances and Certifications Signature Page

(Appendices D and E are not applicable)

Appendix F.—Survey on Ensuring Equal Opportunity for Applicants

Detailed information and document locations:

Appendix A.—Application for Federal Assistance, Form SF-424 (OMB No. 4040-0004).

Appendix B.—Budget Information Sheet, Form SF-424A (OMB No. 0348-0044).

Both forms SF-424 and 424A can be obtained at the following Web address: http://apply.grants.gov/agency/FormLinks?family=7.

Appendix F.—Survey on Ensuring Equal Opportunity for Applicants (OMB No. 1890-0014).

The Survey on Ensuring Equal Opportunity for Applicants form can be obtained at the following Web address: http://www.ed.gov/fund/grant/apply/appforms/surveyeo.pdf. (If you are viewing this in an electronic format and are receiving “page not found”, please cut and paste the URL into your browser window.)

Appendix C.—Assurances and Certifications Signature Page

Certifications and Assurances

Assurances and Certifications Signature Page

The Department of Labor will not award a grant or agreement where the grantee/recipient has failed to accept the assurances and certifications contained in this section. By signing and returning this signature page, the grantee/recipient is providing the certifications set forth below:

A. Certification Regarding Lobbying, Debarment, Suspension, Other Responsibility Matters—Primary Covered Transactions and Certifications Regarding Drug-Free/Tobacco-Free Workplace,

B. Certification of Release of Information

C. Assurances—Non-Construction Programs

D. Applicant is not a 501(c)(4) organization

Applicant Name and Legal Address:

If there is any reason why one of the assurances or certifications listed cannot be signed, please explain. Applicant need only submit and return this signature page with the grant application. All other instruction shall be kept on file by the applicant.

Signature of Authorized Certifying Official Title

Applicant Organization Date Submitted

Please Note: This signature page and any pertinent attachments which may be required by these assurances and certifications shall be attached to the applicant's Cost Proposal.

Signed at Washington, DC this 4th day of May, 2006.
Eric Vogt,
Grant Officer.

[FR Doc. E6-7120 Filed 5-9-06; 8:45 am]

BILLING CODE 4510-FK-P